DEPARTMENT OF THE INTERIOR

Fish and Wildlife Service

[FWS-R2-ES-2010-N017; 20124-1112-0000-F2]

Lower Colorado River Authority Transmission Services Corporation; Construction, Operation, Maintenance, and Repair of Competitive Renewable Energy Zone Transmission Lines and Related Facilities

AGENCY: Fish and Wildlife Service, Interior.

ACTION: Notice of intent to prepare a draft environmental impact statement and draft habitat conservation plan; announcement of meetings; request for comments.

SUMMARY: We, the U.S. Fish and Wildlife Service (Service), advise the public that we intend to prepare a draft environmental impact statement (EIS) to evaluate the impacts of, and alternatives to, the proposed issuance of an Endangered Species Act permit to the Lower Colorado River Authority Transmission Services Corporation (LCRA TSC; applicant) for incidental take of six federally listed or candidate species from activities associated with LCRA TSC's construction, maintenance, operation, and repair of four Competitive Renewable Energy Zone (CREZ) “priority” transmission lines and related facilities (i.e., substations, substation upgrades, and access roads) required to be constructed by the Public Utility Commission of Texas (PUC) (collectively, the LCRA TSC CREZ transmission lines). We also announce plans for a series of public scoping meetings and a public comment period.

DATES: If you wish to submit written comments on alternatives and issues for us to address in the draft EIS, we must receive them by close of business on June 17, 2010. We will hold public scoping meetings at locations throughout LCRA's proposed 14-county permit area. The scoping meetings will be noticed in local news papers at least two weeks before each scoping meeting and on the following website: http://www.LCRA.org.

ADDRESSES: For further information or to send written comments by mail: Field Supervisor, Austin Ecological Services Field Office, U.S. Fish and Wildlife Service, 10711 Burnett Road, Suite 200, Austin, TX 78758-4460; 512/490-0057 (phone); 512/490-0974 (fax); or Luela_Roberts@fws.gov (e-mail). Note that your information request or comments concern the LCRA TSC draft EIS/HCP.

SUPPLEMENTARY INFORMATION: We publish this notice in compliance with the National Environmental Policy Act (NEPA) of 1969, as amended (42 U.S.C. 4321 et seq.), and its implementing regulations (40 CFR 1506.6), and section 10(c) of the Endangered Species Act of 1973, as amended (Act; 16 U.S.C. 1531 et seq.). We intend to gather the information necessary to determine impacts and alternatives to support a decision regarding the potential issuance of an incidental take permit to the applicant, and the implementation of the supporting draft HCP. We intend to prepare an EIS to evaluate the impacts of, and alternatives to, the proposed issuance of an incidental take permit under the Act. The applicant proposes to apply for an incidental take permit through development and implementation of an HCP. The proposed HCP will cover take of certain species that is incidental to activities associated with the construction, operation, maintenance, and repair of LCRA TSC's CREZ transmission lines and related facilities and will include measures necessary to minimize and mitigate impacts to covered species and their habitats to the maximum extent practicable.

Background

Section 9 of the Act prohibits “taking” of fish and wildlife species listed as endangered under section 4 of the Act. The Act's implementing regulations extend, under certain circumstances, the prohibition of take to threatened species. Under section 3 of the Act, the term “take” means “to harass, harm, pursue, hunt, shoot, wound, kill, trap, capture, or collect, or to attempt to engage in any such conduct.” The term “harm” is defined by regulation as “an act which actually kills or injures wildlife. Such act may include significant habitat modification or degradation where it actually kills or injures wildlife by significantly impairing essential behavioral patterns, including breeding, feeding, or sheltering” (50 CFR 17.3). The term “harass” is defined in the regulations as “an intentional or negligent act or omission which creates the likelihood of injury to wildlife by annoying it to such an extent as to significantly disrupt normal behavioral patterns which include, but are not limited to, breeding, feeding, or sheltering” (50 CFR 17.3). Section 10(a)(1)(B) of the Act requires an applicant for an incidental take permit to prepare an HCP that describes: (1) The impact that will result from such taking; (2) the steps the applicant will take to minimize and mitigate that take to the maximum extent practicable, and the funding that will be available to implement such steps; (3) the alternative actions to such taking that the applicant considered and the reasons why such alternatives are not being utilized; and (4) the other measures that the Service may require as being necessary or appropriate for the purposes of the plan. The Act requires us to issue an incidental take permit to an applicant when we determine that: (1) The taking will be incidental to otherwise lawful activities; (2) the applicant will, to the maximum extent practicable, minimize and mitigate the impacts of such taking; (3) the applicant has ensured that adequate funding for the plan will be provided; (4) the taking will not appreciably reduce the likelihood of the survival and recovery of the species in the wild; and (5) the measures, if any, we require as necessary or appropriate for the purposes of the plan will be met. Regulations governing permits for endangered and threatened species are at 50 CFR 17.22 and 17.32.

We expect that the Applicant will request permit coverage for a period of 30 years.

Scoping Meetings

A primary purpose of the scoping process is to receive suggestions and information on the scope of issues and alternatives to consider when drafting the EIS, and to identify, rather than debate, significant issues related to the proposed action. In order to ensure that we identify a range of issues and alternatives related to the proposed action, we invite comments and suggestions from all interested parties. We will conduct a review of this project according to the requirements of the National Environmental Policy Act and its regulations, other relevant Federal laws, regulations, policies, and guidance, and our procedures for compliance with those regulations. Persons needing reasonable accommodations in order to attend and participate in the public meetings should contact us at the address listed in the ADDRESSES section no later than 1 week before the relevant public meeting. Information regarding this proposed action is available in alternative formats upon request. We will accept oral and written comments at the meetings. You may also submit comments to persons listed in the ADDRESSES section. Once the draft EIS and draft HCP are completed and available for review, there will be further opportunities for public comment on the content of these documents through additional public meetings and comment period.

Alternatives

The proposed action presented in the draft EIS will be compared to the No-Action alternative. The No-Action alternative represents estimated future conditions to which the proposed action's estimated future conditions can be compared.

No-Action Alternative

Under the no-action alternative, LCRA TSC would comply with the Act by avoiding impacts to listed species where practicable, by receiving coverage under a Section 7 consultation where other Federal nexi exist, and/or by applying for individual incidental take permits where federal nexus does not exist. This approach is likely to be more time-consuming and less efficient, and could result in an isolated independent mitigation approach. In addition, under this piecemeal approach, it is unlikely that LCRA TSC would be able to construct the LCRA TSC CREZ transmission lines within the timeline mandated by the Texas Legislature and the PUC.

Proposed Alternative

The proposed action is issuance of an incidental take permit for the covered species during construction, operation, and/or maintenance of LCRA TSC's CREZ transmission lines. The proposed HCP, which must meet the requirements in section 10(a)(2)(A) of the Act, would be developed and implemented by the applicant. This alternative could allow for a comprehensive mitigation approach for authorized impacts and reduce the permit processing effort for the Service. Actions covered under the requested incidental take permit may include possible take of covered species associated with activities including, but not limited to, construction, operation, maintenance, and repair of LCRA TSC's CREZ transmission lines and all related infrastructure and facilities such as substations and access roads. The applicant expects to apply for an incidental take permit for six species listed as endangered or threatened or considered to be a candidate for listing within the proposed permit area. It is anticipated that the impacts to listed species associated with the Service's possible approval of the HCP also will be considered pursuant to the interagency consultation procedures of section 7 of the Act and that future consultation on such impacts occurring in accordance with the approved HCP will not be necessary and will not require additional measures of the Applicant. Species proposed to be covered under the requested incidental take permit include: The golden-cheeked warbler, black-capped vireo, least tern, whooping crane, and black-tailed prairie dog. Counties included in the proposed permit area include portions of Tom Green, Schleicher, Sutton, Mason, Menard, Kimble, Kerr, Kendall, Irion, Gillespie, Llano, Burnet, San Saba, and Lampasas Counties. Species not covered by the proposed incidental take permit will also be addressed in the draft HCP as evaluation or additional species. These species include the ocelot, Concho water snake, Clear Creek gambusia, sharpnose shiner, smalleye shiner, Bee Creek Cave harvestman, Texas hornshell, Tobusch fishhook cactus, and Texas snowbells. The applicant does not anticipate that covered activities will result in take of the evaluation species. The purpose of addressing these species is to analyze and explain why the applicant believes these species will not be taken by the covered activities. Other alternatives considered will also be addressed in the draft EIS, including impacts associated with each alternative evaluated.

Public Availability of Comments

Written comments we receive become part of the public record associated with this action. Before including your address, phone number, e-mail address, or other personal identifying information in your comment, you should be aware that the entire comment—including your personal identifying information—may be made publicly available at any time. While you can ask us in your comment to withhold your personal identifying information from public review, we cannot guarantee that we will be able to do so.

Environmental Review

The Service will conduct an environmental review to analyze the proposed action, as well as other alternatives evaluated and the associated impacts of each. The draft EIS will be the basis for the impact evaluation for each species covered and the range of alternatives to be addressed. The draft EIS is expected to provide biological descriptions of the affected species and habitats, as well as the effects of the alternatives on other resources such as vegetation, wetlands, wildlife, geology and soils, air quality, water resources, water quality, cultural resources, land use, recreation, water use, local economy, climate change, and environmental justice. Following completion of the environmental review, the Service will publish a notice of availability and a request for comments on the draft EIS and the Applicant's permit application, which will include the draft HCP. The draft EIS and draft HCP are expected to be completed and available to the public in early to mid-2010.

Thomas L. Bauer,
Acting Regional Director, Region 2, Albuquerque, New Mexico.

[FR Doc. 2010-5944 Filed 3-18-10; 8:45 am]

BILLING CODE 4310-55-P